DEPARTMENT OF ENERGY

Federal Energy Regulatory Commission

[Docket No. EG03-54-000, et al.]

Ingenco Wholesale Power, L.L.C., et al.; Electric Rate and Corporate Filings

April 4, 2003.

The following filings have been made with the Commission. The filings are listed in ascending order within each docket classification.

1. Ingenco Wholesale Power, L.L.C.

[Docket No. EG03-54-000]

Take notice that on March 31, 2003, Ingenco Wholesale Power, L.L.C. (Ingenco Wholesale) tendered for filing with the Federal Energy Regulatory Commission (Commission) an application for determination of exempt wholesale generator status pursuant to part 365 of the Commission's regulations.

Ingenco Wholesale, a Virginia limited liability company, states that it is a wholly-owned subsidiary of Industrial Power Generating Corporation, a Virginia corporation.

Ingenco Wholesale states that it was formed for the purpose of owning Ingenco—Mountain View, a 12 MW electric generating facility located in Mountain View, Pennsylvania. Ingenco Wholesale states it will also hold an interest in other electric generation facilities currently under development and sell the output of those facilities, as well as a number of facilities that are current qualifying facilities, as is detailed in its application.

Comment Date: April 25, 2003.

2. Green Mountain Energy Company

[Docket No. ER02-1600-002]

Take notice that on March 31, 2003, Green Mountain Energy Company (GMEC) filed a newly revised tariff sheet to meet the format requirements pursuant to FERC Order 614.

Comment Date: April 21, 2003.

3. Duke Energy South Bay, LLC

[Docket No. ER03-117-001]

Take notice that on March 31, 2003, Duke Energy South Bay, LLC (Duke South Bay) submitted for filing an unexecuted Reliability Must Run Agreement with the California Independent System Operator (CAISO), which is designated as Rate Schedule FERC No. 2. Duke South Bay states that the filing is in compliance with the Commission's January 30, 2003, order in this docket, wherein the Commission ordered Duke South Bay to re-file its entire Rate Schedule in Compliance with Order No. 614.

Comment Date: April 21, 2003.

4. New York Independent System Operator, Inc.

[Docket No. ER03-238-003]

Take notice that on March 31, 2003, the New York Independent System Operator, Inc. (NYISO) submitted the compliance filing required by the Commission's January 30, 2003, order in the above-captioned proceeding.

The NYISO states it has served a copy of this filing to all parties listed on the official service list maintained by the Secretary of the Commission in Docket No. ER03-238-000.

Comment Date: April 21, 2003.

5. Pacific Gas and Electric Company

[Docket No. ER03-358-002]

Take notice that on March 31, 2003, Pacific Gas and Electric Company (PG&E) submitted a refund report in response to and in compliance with FERC's February 27, 2003, “Order Accepting and Suspending Interconnection Agreements for Filing, Subject to Refund, and Establishing Hearing and Settlement Judge Procedures.”

PG&E states that copies of this filing have been served upon Calpine Corporation, the California Independent System operator Corporation, and the California Public Utilities Commission.

Comment Date: April 21, 2003.

6. Consumers Energy Company

[Docket No. ER03-388-001]

Take notice that on March 31, 2003, Consumers Energy Company (Consumers) tendered for filing changes to Sheet No. 23 of its First Revised Rate Schedule No. 116, pursuant to a February 27, 2002, deficiency letter in Docket No. ER03-388-000.

Consumers states that copies of the filing were served upon those on the official service list.

Comment Date: April 21, 2003.

7. PPL Wallingford Energy LLC and PPL EnergyPlus, LLC

[Docket No. ER03-421-001]

Take notice that on March 31, 2003, PPL Wallingford Energy LLC and PPL EnergyPlus, LLC tendered for filing an amendment to their January 16, 2003, filing of a Reliability Must Run Cost of Service Agreement with ISO New England, Inc. The amendment responds to the February 28, 2003, letter issued in Docket No. ER03-421-000.

Comment Date: April 21, 2003.

8. Wisconsin Electric Power Company

[Docket No. ER03-543-001]

Take notice that on March 31, 2003, Wisconsin Electric Power Company (Wisconsin Electric) tendered for filing rate designation sheets canceling First Revised Service Agreement No. 25 with Badger Power Marketing Authority of Wisconsin, Inc. in compliance with the Federal Energy Regulatory Commission's Order dated March 19, 2003, in Docket No. ER03-543-000.

Comment Date: April 21, 2003.

9. American Transmission Systems, Incorporated

[Docket No.ER03-672-000]

Take notice that on March 31, 2003, American Transmission Systems, Incorporated (ATSI) submitted for filing Third Revised Service Agreement No.214 for Network Service under its Open Access Transmission Tariff to American Municipal Power-Ohio, Inc. ATSI states that the purpose of the revised Service Agreement is to add delivery points for Huron, a new municipal electric system, and Grafton, to update certain network load and resource data. An effective date of April 1, 2003, is requested for the Service Agreement.

ATSI states that copies of this filing were served on the representatives of the City of Huron, Village of Grafton, American Municipal Power-Ohio, Inc., and the Public Utilities Commission of Ohio.

Comment Date: April 21, 2003.

10. New England Power Pool

[Docket No. ER03-673-000]

Take notice that on March 31, 2003, the New England Power Pool (NEPOOL) Participants Committee filed for acceptance materials to (1) permit NEPOOL to expand its membership to include DC Energy, LLC (DC); and (2) to terminate the memberships of Allegheny Supply Company, LLC (Allegheny), PSI Energy, Inc. (PSI), and the Robert E. McLaughlin Trust (Trust). The Participants Committee requests the following effective dates: March 1, 2003, for the termination of Allegheny, and PSI; March 31, 2003, for the termination of the Trust; and April 1, 2003, for commencement of participation in NEPOOL by DC.

The Participants Committee states that copies of these materials were sent to the New England state governors and regulatory commissions and the Participants in NEPOOL.

Comment Date: April 21, 2003.

11. Quest Energy, LLC

[Docket No. ER03-674-000]

Take notice that on March 31, 2003, WPS Resources Corporation (WPSR), on behalf of Quest Energy, LLC (Quest), submitted an amendment to its February 14, 2003 notice of change in status under Quest's market-based rate authority.

Comment Date: April 21, 2003.

12. Wisconsin River Power Company

[Docket No. ER03-675-000]

Take notice that on March 31, 2003, Wisconsin River Power Company (WRPCo or the Company) tendered for filing revised rate schedule sheets (Revised Sheets) in Original Rate Schedule FERC No. 3 (Rate Schedule) by and among WRPCo and Wisconsin Public Service Corporation (WPS) and Wisconsin Power and Light Company (WP&L). WRPCo states that the Revised Sheets amend the term of the Rate Schedule.

The Company requests that the Commission waive its notice of filing requirements to allow the Revised Sheets to become effective as of April 1, 2003, the day after filing.

WRPCo states that copies of the filing were served upon WPS, WP&L, the Public Service Commission of Wisconsin and the Michigan Public Service Commission.

Comment Date: April 21, 2003.

13. Westar Energy, Inc., Kansas Gas and Electric Company

[Docket No. ER03-676-000]

Take notice that on March 31, 2003, Westar Energy, Inc. (WE), submitted for filing Revised Pages 34-42 (Exhibits B, C and D) to WE's Electric Power, Transmission, and Service Contract with the Kansas Electric Power Cooperative (KEPCo). WE also submitted, on behalf of its wholly owned subsidiary Kansas Gas and Electric Company, d/b/a Westar Energy (KGE), Revised Pages 31-36 (Exhibits B, and C) to KGE's Electric Power, Transmission, and Service Contract with KEPCo. WE states that these revisions are part of WE's and KGE's annual exhibits filed with the Federal Energy Regulatory Commission. The revised pages are proposed to be effective June 1, 2003.

WE states that copies of the filing were served upon KEPCo and the Kansas Corporation Commission.

Comment Date: April 21, 2003.

14. Southern California Edison Company

[Docket No. ER03-677-000]

Take notice that on March 31, 2003, Southern California Edison Company (SCE) tendered for filing revisions to the Amended and Restated District-Edison 1987 Service and Interchange Agreement (Agreement) between SCE and The Metropolitan Water District of Southern California (District), Rate Schedule FERC No. 443. SCE states that the revisions to the Agreement are being filed to implement the Fourth Amendment to the District-Edison 1987 Service and Interchange Agreement (Amendment No. 4). SCE also states that Amendment No. 4 sets forth mutually agreed-upon terms relating to exchange energy and the pricing provisions for such exchange energy delivered after September 30, 2001, for the long-term.

SCE request the Commission to assign an effective date of October 1, 2001, to the revised Agreement. SCE states that copies of this filing were served upon the Public Utilities Commission of the State of California and the District.

Comment Date: April 21, 2003.

15. New England Power Company

[Docket No. ER03-678-000]

Take notice that on March 31, 2003, New England Power Company (NEP) submitted for filing:

(i) A Third Revised Service Agreement No. 20 between NEP and its affiliate, Massachusetts Electric Company (MECO), under NEP's FERC Electric Tariff, Original Volume No. 1; and

(ii) Notices of Cancellation for NEP Rate Schedules Nos. 15 and 58.

NEP states that copies of this filing have been served on MECO and regulators in the state of Massachusetts.

Comment Date: April 21, 2003.

16. Mid-Continent Area Power Pool

[Docket No. ER03-679-000]

Take notice that on March 31, 2003, the Mid-Continent Area Power Pool (MAPP) tendered for filing amendments to the Power and Energy Market Rate Tariff of the Restated Agreement.

Comment Date: April 21, 2003.

17. Avista Corporation

[Docket No. ER03-680-000]

Take notice that on March 31, 2003, Avista Corporation (Avista) tendered for filing with the Federal Energy Regulatory Commission (Commission), an Original Service Agreement No. 299, which Avista states is a Master Confirmation Agreement between Avista and Southern California Edison Company under the Western Systems Power Pool Agreement (hereinafter Master Confirmation).

Avista respectfully requests that the Commission accept the Master Confirmation for filing and grant all waivers necessary to allow the Master Confirmation to become effective March 1, 2003, or, alternatively, a determination by the Commission that the Master Confirmation need not be filed with, nor reported to, the Commission. SCE is the sole party affected by the Master Confirmation and the waiver, if granted, will not affect any other rate or charge to any other customer.

Avista states that copies of the filing were served upon Southern California Edison Company and Michael Small, General Counsel to the Western Systems Power Pool, Inc.

Comment Date: April 21, 2003.

18. Entergy Services, Inc., and Entergy Power, Inc.

[Docket No. ER03-681-000]

Take notice that on March 31, 2003, 2003, Entergy Services, Inc. (ESI), on behalf of the Entergy Louisiana, Inc. (ELI), and Entergy Power, Inc. (EPI), an affiliated marketer, filed under section 205 of the Federal Power Act for approval of a power purchase agreement between ELI and EPI. ESI and EPI seek an effective date of June 1, 2003.

ESI states that copies of this filing were served on the affected state utility commissions.

Comment Date: April 21, 2003.

19. Entergy Services, Inc., and Entergy Power, Inc.

[Docket No. ER03-682-000]

Take notice that on March 31, 2003, Entergy Services, Inc. (ESI), on behalf of Entergy New Orleans, Inc. (ENO), and Entergy Power, Inc. (EPI), an affiliated marketer, filed under section 205 of the Federal Power Act for approval of a power purchase agreement between the ENO and EPI. ESI and EPI seek an effective date of June 1, 2003. In addition, ESI also filed for approval two additional purchase power agreements, between ENO and, respectively, Entergy Gulf States, Inc. and Entergy Arkansas, Inc. ESI also seeks an effective date of June 1, 2003, for these power purchase agreements.

ESI states that copies of this filing were served on the affected state utility commissions.

Comment Date: April 21, 2003.

20. California Independent System Operator Corporation

[Docket No. ER03-683-000]

Take notice that on March 31, 2003, the California Independent System Operator Corporation (ISO), tendered for filing with the Commission Amendment No. 50 to the ISO Tariff. ISO states that the purpose of Amendment No. 50 is to modify the Tariff to provide for a means to improve management of Intra-Zonal Congestion until the ISO implements Locational Marginal Pricing (LMP) or some other long-term comprehensive solution, and to allow the ISO to share Generator Outage information with entities operating transmission and distribution systems affected by the Outage.

The ISO states that this filing has been served on the Public Utilities Commission of the State of California, the California Energy Commission, the California Electricity Oversight Board, and all parties with effective Scheduling Coordinator Agreements under the ISO Tariff. The ISO is requesting that Amendment No. 50 be made effective May 30, 2003.

Comment Date: April 21, 2003.

21. Wisconsin Power & Light Company

[Docket No.ER03-684-000]

Take notice that on March 31, 2003, Wisconsin Power & Light Company (WPL) tendered for filing with the Commission new rates to be charged under its wholesale Rate Schedules W-2A and W-4A to reflect the current cost of service incurred by WPL and its subsidiary South Beloit Water, Gas and Electric Company. WPL has asked that new rates become effective on July 8, 2003.

WPL states that a copy of this filing has been served upon the Public Service Commission of Wisconsin and the WPL wholesale electric customers affected by this filing.

Comment Date: April 21, 2003.

22. Michigan Electric Transmission Company, LLC

[Docket No. ER03-688-000]

Take notice that on March 31, 2003, Michigan Electric Transmission Company, LLC (METC) submitted a proposed amendment to the “Project I Transmission Ownership and Operating Agreement Between Consumers Power Company, and Michigan South Central Power Agency,” dated November 20, 1980. METC states that it proposes to amend the Operating Agreement to add new Article 20, to allow for the reimbursement to METC for certain regional transmission organization or independent transmission provider costs assessed to METC associated with the load of Michigan South Central Power Agency. METC requests an effective date of April 1, 2003, for the proposed amendment.

Comment Date: April 21, 2003.

23. Riverview Energy Center, LLC

[Docket No. ES03-28-000]

Take notice that on March 26, 2003, Riverview Energy Center, LLC (Riverview) submitted an application pursuant to section 204 of the Federal Power Act seeking authorization to assume long-term obligations in an amount not to exceed $300 million and $68.5 million pursuant to a lease agreement with its parent company, Calpine California Equipment Finance Company, LLC.

Riverview also requests a waiver from the Commission's competitive bidding and negotiated placement requirements at 18 CFR 34.2.

Comment Date: April 18, 2003.

24. Upper Peninsula Power Company

[Docket No. ES03-29-000]

Take notice that on March 31, 2003, Upper Peninsula Power Company (Upper Peninsula) submitted an application pursuant to section 204 of the Federal Power Act seeking authorization to issue long-term, unsecured debt in an amount not to exceed $15 million at any time.

Upper Peninsula also requests a waiver from the Commission's competitive bidding and negotiated placement requirements at 18 CFR 34.2.

Comment Date: April 25, 2003.

Standard Paragraph

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number field to access the document. For assistance, contact FERC Online Support at FERCOnlineSupport@ferc.gov or toll-free at (866)208-3676, or for TTY, contact (202)502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-8977 Filed 4-10-03; 8:45 am]

BILLING CODE 6717-01-P